Title 3—

The President

Proclamation 9782 of September 10, 2018

Patriot Day, 2018

By the President of the United States of America

A Proclamation

On Patriot Day, we honor the memories of the nearly 3,000 precious lives we lost on September 11, 2001, and of every hero who has given their life since that day to protect our safety and our freedom. We come together, today, to recall this timeless truth: When America is united, no force on Earth can break us apart. Our values endure; our people thrive; our Nation prevails; and the memory of our loved ones never fades.

Although that fateful Tuesday 17 years ago began like any other, it erupted into horror and anguish when radical Islamist terrorists carried out an unprecedented attack on our homeland. In New York, Virginia, and Pennsylvania, the enemies of liberty took aim on America, but their evil acts could not crush our spirit, overcome our will, or loosen our commitment to freedom. Through the dust and ashes, we emerged resilient and united—bruised but not broken.

On September 11, 2001, the world came to understand the true source of America's strength: A people of an indomitable will and a society rooted in the timeless values of liberty. Our love of country was made manifest through the examples of Americans engaging in countless acts of courage, grit, and selflessness. Their actions gave us hope and helped to sustain us in the days of healing that followed. We were moved by the heroism of the passengers and crew aboard United Flight 93, who sacrificed their lives to prevent further acts of terror. We were inspired by police and first responders as they rushed headlong into burning buildings to rescue the injured and trapped, and as they courageously braved fire, smoke, and debris, descending deep into piles of rubble, ash, and twisted iron to search for survivors. We were stirred to service by the deeds of those who labored in the ensuing days and months, often in dangerous conditions, to help our Nation rebuild and recover. The noble sacrifices of these true patriots are forged into the great history of America.

Today, we honor the memories of the souls we lost on September 11, 2001, and pay tribute to all of the patriots who have sacrificed their lives in defense of freedom. We pray for the Soldiers, Sailors, Airmen, Marines, and Coast Guardsmen currently serving our Nation in harm's way. We thank the dedicated men and women who keep our homeland safe and secure. We applaud the unsung patriots in city halls, community centers, and places of worship across our country whose simple acts of kindness define the greatness of America.

By a joint resolution approved December 18, 2001 (Public Law 107-89), the Congress has designated September 11 of each year as “Patriot Day.”

NOW, THEREFORE, I, DONALD J. TRUMP, President of the United States of America, do hereby proclaim September 11, 2018, as Patriot Day. I call upon all departments, agencies, and instrumentalities of the United States to display the flag of the United States at half-staff on Patriot Day in honor of the individuals who lost their lives on September 11, 2001. I invite the Governors of the United States and its Territories and interested organizations and individuals to join in this observance. I call upon the people of the United States to participate in community service in honor of those our Nation lost, to observe this day with appropriate ceremonies and activities, including remembrance services, and to observe a moment of silence beginning at 8:46 a.m. Eastern Daylight Time to honor the innocent victims who perished as a result of the terrorist attacks of September 11, 2001.

IN WITNESS WHEREOF, I have hereunto set my hand this tenth day of September, in the year of our Lord two thousand eighteen, and of the Independence of the United States of America the two hundred and forty-third.

[FR Doc. 2018-20089

Filed 9-12-18; 11:15 am]

Billing code 3295-F8-P